DEPARTMENT OF TRANSPORTATION

Federal Aviation Administration

14 CFR Part 95

[Docket No. 31012; Amdt. No. 519]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, April 30, 2015.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on March 27, 2015.
John Duncan,
Director, Flight Standards Service.

Adoption of the Amendment

Accordingly, pursuant to the authority delegated to me by the Administrator, part 95 of the Federal Aviation Regulations (14 CFR part 95) is amended as follows effective at 0901 UTC, April 30, 2015.

1. The authority citation for part 95 continues to read as follows:

Authority: 49 U.S.C. 106(g), 40103, 40106, 40113, 40114, 40120, 44502, 44514, 44719, 44721.

2. Part 95 is amended to read as follows:

§§ 95.4000, 95.4024, 95.6001, 95.6070, 95.6071, 95.6114, 95.6133, 95.6145, 95.6194, 95.6420, 95.6438, 95.6511, 95.6559, 95.6566, 95.7001, 95.7002, 95.7138, 95.7590, 95.8003 [AMENDED]

Revisions to IFR Altitudes & Changeover Point
[Amendment 519 effective date April 30, 2015]
From | To | MEA | MAA
§ 95.4000 High Altitude RNAV Routes
§ 95.4024 RNAV Route Q24 is Amended to Read in Part
Lake Charles, LA Vortac | Fighting Tiger, LA Vortac | * 20000 | 45000
* 18000—GNSS MEA
* DME/DME/IRU MEA
Fighting Tiger, LA VORTAC | Irube, MS WP | * 20000 | 45000
* 18000—GNSS MEA
* DME/DME/IRU MEA
Irube, MS WP | Paytn, AL FIX | * 20000 | 45000
* 18000—GNSS MEA
* DME/DME/IRU MEA

From | To | MEA
§ 95.6001 Victor Routes—U.S.
§ 95.6070 VOR Federal Airway V70 is Amended to Read in Part
Lafayette, LA VORTAC | * Rosey, LA FIX | 2100
* 5000—MRA
* Rosey, LA FIX | Fighting Tiger, LA VORTAC | 2100
* 5000—MRA
Fighting Tiger, LA VORTAC | Picayune, MS VOR/DME | 2000
§ 95.6071 VOR Federal Airway V71 is Amended to Read in Part
Fighting Tiger, LA VORTAC | Wrack, LA FIX | 2200
§ 95.6114 VOR Federal Airway V114 is Amended to Read in Part
* Mikle, LA FIX | Fighting Tiger, LA VORTAC | 2000
* 3000—MRA
Fighting Tiger, LA VORTAC | Veils, LA FIX | 2800
Veils, LA FIX | Reserve, LA VOR/DME | 2000
§ 95.6133 VOR Federal Airway V133 is Amended to Read in Part
* Ladin, MI FIX | Traverse City, MI VOR/DME | ** 5000
* 5000—MRA
** 2800—MOCA
§ 95.6145 VOR Federal Airway V145 is Amended to Read in Part
Utica, NY VORTAC | Weepy, NY FIX | * 3400
* 3000—MOCA
Weepy, NY FIX | Floor, NY FIX | * 3000
* 2200—MOCA
Floor, NY FIX | Watertown, NY VORTAC | * 3000
* 2700—MOCA
Watertown, NY VORTAC | U.S. Canadian Border | * 3000
* 1800—MOCA
§ 95.6194 VOR Federal Airway V194 is Amended to Read in Part
Lafayette, LA VORTAC | * Rosey, LA FIX | 2100
* 5000—MRA
* Rosey, LA FIX | Fighting Tiger, LA VORTAC | 2100
* 5000—MRA
Fighting Tiger, LA VORTAC | McComb, MS VORTAC | 2300
§ 95.6420 VOR Federal Airway V420 is Amended to Read in Part
Traverse City, MI VOR/DME | Gaylord, MI VOR/DME | #3000
#Traverse City R-062 Unusable Use Gaylord R-247
§ 95.6511 VOR Federal Airway V511 is Amended to Read in Part
Lakeland, FL VORTAC | Hallr, FL FIX | * 4000
* 2300—MOCA
§ 95.6559 VOR Federal Airway V559 is Amended to Read in Part
Lafayette, LA VORTAC | Fighting Tiger, LA VORTAC | 2100
§ 95.6566 VOR Federal Airway V566 is Amended to Read in Part
Veils, LA FIX | Reserve, LA VOR/DME | 2000
§ 95.6438 Alaska VOR Federal Airway V438 is Amended to Read in Part
* Sures, AK FIX | Liber, AK FIX | #** 11000
* 10000—MRA
** 8900—MOCA
#MEA is Established With a Gap in Navigation Signal Coverage.

From | To | MEA | MAA
§ 95.7001 Jet Routes
§ 95.7002 Jet Route J2 is Amended to Read in Part
Lake Charles, LA VORTAC | Fighting Tiger, LA VORTAC | 18000 | 45000
Fighting Tiger, LA VORTAC | Semmes, AL VORTAC | 18000 | 45000
§ 95.7138 Jet Route J138 is Amended to Read in Part
Lake Charles, LA VORTAC | Fighting Tiger, LA VORTAC | 18000 | 45000
Fighting Tiger, LA VORTAC | Semmes, AL VORTAC | 18000 | 45000
§ 95.7590 Jet Route J590 is Amended to Read in Part
Lake Charles, LA VORTAC | Fighting Tiger, LA VORTAC | 18000 | 45000
Fighting Tiger, LA VORTAC | Greene County, MS VORTAC | 18000 | 45000

Airway segment: From | Airway segment: To | Changeover points: Distance | Changeover points: From
§ 95.8003 VOR Federal Airway Changeover Point
V285 is Amended to Delete Changeover Point
Manistee, MI VOR/DME | Traverse City, MI VOR/DME | 29
Manistee

[FR Doc. 2015-07505 Filed 4-2-15; 8:45 am]

BILLING CODE 4910-13-P